DEPARTMENT OF VETERANS AFFAIRS

Advisory Committee on Women Veterans, Notice of Meeting

The Department of Veterans Affairs (VA) gives notice under the Federal Advisory Committee Act, 5 U.S.C. ch. 10, that the Advisory Committee on Women Veterans will conduct a virtual meeting on April 2-4, 2024. The meeting will begin and ends as follows:

Date | Time | Location
April 2, 2024 | 1:00 p.m.-4:00 p.m. Eastern Standard Time (EST) | WEBEX link and call-in information below.
April 3, 2024 | 12:00 p.m.-3:30 p.m. (EST) | WEBEX link and call-in information below.
April 4, 2024 | 1:00 p.m.-3:30 p.m. (EST) | WEBEX link and call-in information below.

The meeting sessions are open to the public.

The purpose of the Committee is to advise the Secretary of Veterans Affairs regarding the needs of women Veterans with respect to health care, rehabilitation, compensation, outreach and other programs and activities administered by VA designed to meet such needs. The Committee makes recommendations to the Secretary regarding such programs and activities.

On Tuesday, April 2, 2024, the agenda includes updates from the Veterans Health Administration and the Veterans Benefits Administration regarding 2020 and 2022 report recommendations. Time will also be allotted for the public to provide comments starting at 3:30 p.m. and ending no later than 4:00 p.m. (EST). The comment period may end sooner, if there are no comments presented or they are exhausted before the end time. Individuals interested in providing comments during the public comment period are allowed no more than three minutes for their statements.

On Wednesday, April 3, 2024, the Committee will receive updates from the Veterans Health Administration and the Veterans Benefits Administration regarding 2018 report recommendations. Thursday, April 4, 2024, the committee will receive an update from the Veterans Health Administration, and conduct a full committee discussion on the status of 2018, 2020, 2022 report recommendations.

Those who want to submit written statements for the Committee's review should submit them to the Center for Women Veterans at 00W@mail.va.gov no later than March 21, 2024. Any member of the public who wishes to participate virtually may use the following access information: (https://veteransaffairs.webex.com/veteransaffairs/j.php?MTID=ma3058823e48303a8c0f0683912f4a761); meeting number: 2823 307 1003; password: 6TShpns2k8@. Join by phone at 1-404-397-1596 (USA toll number); Access code: 2823 307 1003.

Dated: March 12, 2024.
Jelessa M. Burney,
Federal Advisory Committee Management Officer.

[FR Doc. 2024-05577 Filed 3-14-24; 8:45 am]

BILLING CODE P